DEPARTMENT OF STATE

[Public Notice:12190]

Defense Trade Advisory Group; Notice of Open Meeting

The Defense Trade Advisory Group (DTAG) will meet in open session from 1:00 p.m. until 5:00 p.m. on Thursday, October 12, 2023. This hybrid meeting will be held in person at 1777 F Street NW, Washington, DC, with the option to attend virtually via Zoom. The virtual forum will open at 12:15 p.m. The membership of this advisory committee consists of private sector defense trade representatives, appointed by the Assistant Secretary of State for Political-Military Affairs, who advise the Department on policies, regulations, and technical issues affecting defense trade. The DTAG was established as an advisory committee under the authority of 22 U.S.C. 2651a and 2656 and the Federal Advisory Committee Act, 5 U.S.C. 1001 et seq.

The purpose of the meeting will be to discuss current defense trade issues and topics for further study. The Directorate of Defense Trade Controls (DDTC) asked the DTAG to complete the following taskings, which will be discussed and presented: (1) to review parts 123, 124, sections of part 125 related to classified defense articles, and relevant text of DDTC Guidelines for Preparing Agreements and report recommendations on ways to better organize and consolidate ITAR licensing requirements and processes, with specific attention to efforts to standardize structure and language, such that sections describing different types of authorizations follow the same construction, and to provide recommendations related to streamlining or removing text specific to technical data within the definition of defense articles in 120.31(a); (2) provide insight on issues faced by industry related to defense commercial sales (DCS) pre-delivery and delivery activities in support of foreign military sales (FMS), DCS post-delivery support and sustainment of FMS articles, challenges faced by non-U.S. entities/customers, other inefficiencies and/or redundancies, as well as recommendations for improvement; and (3) assess and provide recommendations on improvements that could be made to the process and associated guidance for name/address changes and other administrative changes resulting from companies' internal business decisions, to improve efficiency and reduce registration and licensing burdens on industry.

For those attending virtually via Zoom, there will be one Zoom invitation for each attendee, and only the invited attendee should use the invitation. Please let us know if you need any of the following accommodations: live captions, digital/text versions of webinar materials, or other (please specify).

Members of the public may attend this hybrid session in person or virtually, with virtual questions submitted by email after the formal DTAG presentation. Members of the public may also submit a brief statement (less than three pages) to the committee in writing for inclusion in the public minutes of the meeting. Each member of the public that wishes to attend this session in person or virtually must provide: Name and contact information, including an email address and phone number, method of attendance, and any request for reasonable accommodation to the DTAG Designated Federal Officer (DFO), Paula Harrison, via email at DTAG@State.gov by COB Tuesday, October 10th, 2022.

For Further Information Contact: Ms. Katherine Vaughn, PM/DDTC, SA-1, 12th Floor, Directorate of Defense Trade Controls, Bureau of Political-Military Affairs, U.S. Department of State, Washington, DC 20522-0112; Telephone (771) 205-4633 or email DTAG@State.gov .

(Authority: 22 U.S.C. 2651a and 41 CFR 102-3.150.)

Paula Harrison,
Designated Federal Officer, Defense Trade Advisory Group, Department of State.

[FR Doc. 2023-20737 Filed 9-22-23; 8:45 am]

BILLING CODE 4710-25-P